OFFICE OF THE FEDERAL REGISTER

Correction; Announcement of Withdrawal and Republication

AGENCY: Office of the Federal Register.

ACTION: Correction; Announcement of Withdrawal and Republication.

SUMMARY: The Office of the Federal Register (OFR) published a Department of Energy, Bonneville Power Administration document (FR Doc. E8-9572, 73 FR 24059, May 1, 2008), in error, prior to the requested publication date.

The OFR received this notice from the Bonneville Power Administration, as sent to interested parties:

“The Federal Register notice announcing the commencement of the Tiered Rate Methodology (TRM-12) rate case was prematurely published yesterday (May 1, 2008). BPA wishes to inform all potential rate case parties that it is withdrawing the May 1, 2008 Federal Register notice. Another notice, formally announcing the initiation of the Tiered Rates Methodology rate case will be published on May 6, 2008. We regret any confusion created by the early publication of the notice.”

FOR FURTHER INFORMATION CONTACT: Michael White, (202) 741-6002, or by e-mail at: michael.white@nara.gov.

Authority: The authority for this action is 44 U.S.C. 1502 and 1 CFR 2.4 and part 5.

Dated: May 1, 2008.
Michael L. White,
Acting Director of the Federal Register.

[FR Doc. 08-1216 Filed 5-1-08; 1:33 pm]

BILLING CODE 1505-02-P